DEPARTMENT OF LABOR

Employment and Training Administration

[TA-W-56,953]

Rods Indiana, Inc., Butler Plant, Butler, IN; Notice of Termination of Investigation

Pursuant to Section 221 of the Trade Act of 1974, as amended, an investigation was initiated on April 13, 2005 in response to a petition filed by a company official on behalf of workers at Rods Indiana, Inc., Butler Plant, Butler, Indiana.

The petitioner has requested that the petition be withdrawn. Consequently, the investigation has been terminated.

Signed at Washington, DC, this 7th day of June, 2005.
Linda G. Poole,
Certifying Officer, Division of Trade Adjustment Assistance.

[FR Doc. E5-3231 Filed 6-21-05; 8:45 am]

BILLING CODE 4510-30-P